DEPARTMENT OF DEFENSE

Office of the Secretary

Proposed collection; comment request

AGENCY: Office of the Under Secretary of Defense (Personnel and Readiness), DoD.

ACTION: Notice.

In compliance with section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by April 22, 2002.

ADDRESSES: Written comments and recommendations on the proposed information collection should be sent to the Office of the Under Secretary of Defense (Personnel and Readiness), Office of the Deputy Under Secretary of Defense (Program Integration)/Defense Human Resources Activity, ATTN: Ms. Sheila Ford, 4040 Fairfax Boulevard, Suite 200, Arlington, VA 22203.

FOR FURTHER INFORMATION CONTACT: To request more information on this proposed information collection or to obtain a copy of the proposal and associated collection instruments, please write to the above address or call at (703) 696-0404.

Title, Associated Form, and OMB Number: Application for Uniformed Services Identification Card—DEERS Enrollment, DD Form 1172, OMB Number 0704-0020.

Needs and Uses: This information collection requirement is necessary to authorize members of the Uniformed Services, their spouses and dependents, and other authorized individuals certain benefits and privileges. These privileges include health care, use of commissary, base exchange, and morale, welfare, and recreation facilities. This information collection is needed to obtain the necessary data to determine eligibility, to provide eligible individuals with an authorization card (identification card) for benefits and privileges administered by the Uniformed Services, and maintain a centralized database of eligible individuals. This information collection may also be used by the military departments and the Defense agencies to issue their non-benefit identification cards.

Affected Public: Individuals or households.

Annual Burden Hours: 281,092.

Number of Respondents: 1,623,246.

Responses Per Respondent: 1.

Average Burden Per Response: 10 minutes.

Frequency: On occasion.

SUPPLEMENTARY INFORMATION:

Summary of Information Collection

This information collection identifies those individuals eligible for the benefits and privileges authorized in Sections 1061-1065, 1072-1074c, 1076, 1076a, 1077, 1074a, 1175, and 1408 of Title 10 and issuance of the appropriate Uniformed Services identification cards.

The Uniformed Services identification card is the key to authorized usage of military health care, commissary, exchange privileges, and morale, welfare, and recreation facilities. In order to obtain this identification card, an applicant is required to go to an identification card issuing site and update a DD Form 1172, “Application for Uniformed Services Identification Card—DEERS Enrollment.” The sponsor, or person authorized to sign the DD Form 1172 in accordance with the criteria established in DoD Instruction 1000.13, provides appropriate dependent information and verification, i.e., birth certificate, marriage license, etc. The information is entered into an automated system by the identification card issuing official and reviewed by the applicant. Once the applicant has reviewed the information for correctness, the sponsor, or person authorized to sign the form, will sign the system-printed DD Form 1172. The DD Form 1172 must be signed by both the sponsor (or person authorized to sign the form) and the verifying official. The person authorized to sign the form must sign it in the presence of the verifying official. On those rare occasions where the sponsor (or personnel authorized to sign the form) is unable to accompany his/her dependent to the identification card issuing site, the signature must be notarized in accordance with the criteria set forth in DoD Instruction 1000.13 prior to verification by the verifying official. This does not happen very often and does not create a significant increase in burden to the public. Once the DD Form 1172 has been properly signed, the form is taken to the identification care issuing site for issuance of the ID card. The data are transmitted to the Defense Manpower Data Center to be entered into the Defense Enrollment Eligibility Reporting System (DEERS) database. The applicant is required to update the information once every four years or as changes occur, i.e., reservist entering active duty or being released from active duty.

This information collection may also be used to identify employees and certain contractors of the military departments and Defense agencies for the purpose of issuance of a non-benefit identification card. This group may include civilians and contractors who regularly require official identification in connection with their official business.

Respondents will be: active duty, reserve, and retired personnel of the Uniformed Services (Army, Navy, Air Force, Marine Corps, Coast Guard, US Public Health Service, and NOAA) and their dependents; surviving dependents of deceased active duty and deceased retired personnel; certain Federal employees; certain contract employees; certain State Department employees employed in a foreign country and their dependents; any other individuals entitled to care under the Uniformed Services health care program; individuals entitled to Uniformed Services benefits and privileges and a Uniformed Services identification card; any eligible individual who submits a health care claim; and individuals eligible for certain civilian non-benefit identification cards.

Dated: February 12, 2002.
Patricia L. Toppings,
Alternate OSD Federal Register Liaison Officer, Department of Defense.

[FR Doc. 02-4094 Filed 2-20-02; 8:45 am]

BILLING CODE 5001-08-M